ENVIRONMENTAL PROTECTION AGENCY

40 CFR Part 52

[EPA-R06-OAR-2005-TX-0012; FRL-9243-1]

Approval and Promulgation of Implementation Plans; Texas; Emissions Banking and Trading of Allowances Program

AGENCY: Environmental Protection Agency (EPA).

ACTION: Withdrawal of direct final rule.

SUMMARY: On November 16, 2010 (75 FR 69884), EPA published a direct final rule approving portions of four revisions to the Texas State Implementation Plan (SIP) that create and amend the Emissions Banking and Trading of Allowances (EBTA) Program. The EBTA Program establishes a cap and trade program to reduce emissions of oxides of nitrogen (NOX) and sulfur dioxide (SO2) from participating electric generating facilities in Texas. The direct final action was published without prior proposal because EPA anticipated no adverse comments. EPA stated in the direct final rule that if we received relevant, adverse comments by December 16, 2010, EPA would publish a timely withdrawal in the Federal Register. EPA subsequently received timely adverse comments on the direct final rule. Therefore, EPA is withdrawing the direct final approval. EPA will address all relevant, adverse comments submitted by December 16, 2010, in a subsequent final action based on the parallel proposal also published on November 16, 2010 (75 FR 69909). As stated in the parallel proposal, EPA will not institute a second comment period on this action.

DATES: The direct final rule published on November 16, 2010 (75 FR 69884), is withdrawn as of December 28, 2010.

FOR FURTHER INFORMATION CONTACT: Ms. Adina Wiley (6PD-R), Air Permits Section, Environmental Protection Agency, Region 6, 1445 Ross Avenue (6PD-R), Suite 1200, Dallas, TX 75202-2733. The telephone number is (214) 665-2115. Ms. Wiley can also be reached via electronic mail at wiley.adina@epa.gov.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 15, 2010.
Al Armendariz,
Regional Administrator, EPA Region 6.

Accordingly, the amendments to 40 CFR 52.2270 published in the Federal Register on November 16, 2010 (75 FR 69884), which were to become effective on January 18, 2011, are withdrawn.

[FR Doc. 2010-32458 Filed 12-27-10; 8:45 am]

BILLING CODE 6560-50-P